FEDERAL COMMUNICATIONS COMMISSION

47 CFR Part 90

[WT Docket No. 00-32; FCC 04-185]

Suspension of Effective Date in 47 CFR 90.1211(a)

AGENCY: Federal Communications Commission.

ACTION: Final rule; suspension of effectiveness.

SUMMARY: In this document, the Commission grants a petition for stay of the Memorandum Opinion and Order and Third Report and Order, 68 FR 38635, June 30, 2003, released on May 2, 2003, in this proceeding. Specifically, the FCC stays the effectiveness of 47 CFR 90.1211(a), which authorizes 700 MHz Regional Planning Committees to submit regional plans for the sharing of the 4.9 GHz spectrum, and requiring such plans to be submitted to the Commission within twelve months after the effective date of the rules. The Memorandum Opinion and Order and Third Report and Order was published in the Federal Register on June 30, 2003, with an effective date of July 30, 2003. Regional Planning Committee plans for the shared use of the 4.9 GHz spectrum were due July 30, 2004. A temporary stay of the July 30, 2004 deadline is granted until six months after resolution of a pending petition for reconsideration filed in this proceeding.

DATES: Effective September 23, 2004, 47 CFR 90.1211(a) is stayed temporarily. The Commission will publish a document in the Federal Register announcing a new effective date.

FOR FURTHER INFORMATION CONTACT: Jeannie Benfaida, Public Safety and Critical Infrastructure Division, Wireless Telecommunications Bureau, at (202) 418-0680.

SUPPLEMENTARY INFORMATION: This is a summary of the Order, released on August 2, 2004. The full text of this document is available for public inspection and copying during regular business hours at the FCC Reference Information Center, Portals II, 445 12th Street, SW., Room CY-A257, Washington, DC 20554. This document may also be purchased from the Commission's duplicating contractor, Best Copy and Printing, Portals II, 445 12th Street, SW., Room CY-B402, Washington, DC 20554, telephone 202-863-2893, facsimile 202-863-2898, or via e-mail joshir@erols.com. The full text may also be downloaded at: http://www.fcc.gov/Wireless/Orders/2004/fcc040185.txt. Alternative formats are available to persons with disabilities by contacting Brian Millin at (202) 418-7426 or TTY (202) 418-7365.

In the Order, the Commission stayed the effectiveness of 47 CFR 90.1211(a), which authorizes the fifty-five 700 MHz Regional Planning Committees to develop and submit a plan on guidelines to be used for sharing the 4.9 GHz spectrum within the region to the Commission within twelve months of the effective date of the Memorandum Opinion and Order and Report and Order, 68 FR 38635, June 30, 2003, which established licensing and service rules for the 4940-4990 MHz (4.9GHz) band. Given the uncertainty created by the pendency of the petition for reconsideration, twelve months has not been enough time for RPCs to complete plans for the sharing of the 4.9 GHz spectrum. The stay will remain in effect until six months after the resolution of the petition for reconsideration of the Memorandum Opinion and Order and Report and Order, released on May 2, 2003, in this proceeding.

The Commission will not send a copy of this Order in a report to be sent to Congress and the Government Accountability Office (GAO) pursuant to the Congressional Review Act, see 5 U.S.C. 801(a)(1)(A), because the Order stays the effectiveness of a final rule.

Federal Communications Commission.
Marlene H. Dortch,
Secretary.

[FR Doc. 04-19359 Filed 8-23-04; 8:45 am]

BILLING CODE 6712-01-P